DEPARTMENT OF COMMERCE

Patent and Trademark Office

Privacy Act of 1974; System of Records

AGENCY: United States Patent and Trademark Office, Commerce.

ACTION: Notice of proposed new Privacy Act system of records.

SUMMARY: In accordance with the requirements of the Privacy Act of 1974, as amended, the United States Patent and Trademark Office (USPTO) gives notice of a proposed new system of records entitled “COMMERCE/PAT-TM-17 USPTO Security Access Control and Certificate Systems.” We invite the public to comment on the system announced in this publication.

DATES: Written comments must be received no later than January 13, 2005. The proposed system of records will be effective on January 13, 2005, unless the USPTO receives comments that would result in a contrary determination.

ADDRESSES: You may submit written comments by any of the following methods:

• E-mail: Chris.Rutherford@uspto.gov.

• Fax: (571) 273-5357, marked to the attention of Chris Rutherford.

• Mail: Chris Rutherford, IT Security Program Office, United States Patent and Trademark Office, Madison Building West-Room 5A19, 600 Dulany Street, Alexandria, VA 22314.

All comments received will be available for public inspection at the Public Search Facilities, Madison East-1st Floor, 600 Dulany Street, Alexandria, VA 22314.

FOR FURTHER INFORMATION CONTACT: Director, IT Security Program Office, United States Patent and Trademark Office, Madison Building West-Room 5A05, 600 Dulany Street, Alexandria, VA 22314, (571) 272-5356.

SUPPLEMENTARY INFORMATION: The United States Patent and Trademark Office (USPTO) is giving notice of a new system of records that is subject to the Privacy Act of 1974. The proposed system of records will maintain information on all employees and contractors and other affiliates who require public key infrastructure (PKI) authenticated access to USPTO automated information systems (AISs).

The proposed system of records is necessary in order to implement a new internal PKI in which the digital certificates produced by the PKI are carried on smart cards that also support the physical Access Control System for the USPTO, including the main offices at the Carlyle campus in Alexandria, VA. The smart card-based system will use electronic access credentials, such as digital public key or PKI certificates. Access to electronic agency assets, including the USPTO computer network and the USPTO desktop and laptop computers, will be controlled using this new process. This will provide a high level of security authentication in accord with recent Office of Management and Budget (OMB) and Federal Identity Credentialing Committee guidance.

The proposed new system of records, “COMMERCE/PAT-TM-17 USPTO Security Access Control and Certificate Systems,” is published in its entirety below.

COMMERCE/PAT-TM-17

System name:

USPTO Security Access Control and Certificate Systems.

Security classification:

Unclassified.

System location:

IT Security Program Office, United States Patent and Trademark Office, Madison Building West-Room 5A29, 600 Dulany Street, Alexandria, VA 22314.

Categories of individuals covered by the system:

USPTO employees, contractors, and other affiliates requiring PKI-authenticated access to USPTO electronic assets including the network, desktops, and laptops.

Categories of records in the system:

The system contains information needed to establish identity, accountability, and audit control of digital certificates issued by the new USPTO internal PKI that have been assigned to personnel who require access to USPTO electronic assets, including the USPTO network, as well as those who transmit electronic data that requires the protection of PKI security services. The records are created and maintained to provide assurance that the digital certificates are issued and delivered to the correct individual, who typically has been issued a smart card by the USPTO Office of Security.

Records may include the individual's name; organization; work telephone number; social security number; driver's license number; passport number; date of birth; employee number; smart card serial number; work e-mail address; status as an employee, contractor or other affiliation with the USPTO; title; home address and phone number.

Records also include information on the creation, renewal, replacement or revocation of digital certificates, including evidence provided by applicants for proof of identity and authority, sources used to verify an applicant's identity and authority, and the certificates issued, denied and revoked, including reasons for denial and revocation.

Authority for maintenance of the system:

5 U.S.C. 301; 35 U.S.C. 2; the Electronic Signatures in Global and National Commerce Act, Pub. L. 106-229; and E.O. 9397.

Purpose(s):

To improve security for USPTO electronic assets; to maintain accountability for issuance and disposition of security access; to maintain an electronic system to facilitate secure on-line communication between Federal automated systems, between Federal employees or contractors, and with the public, using digital signature technologies to authenticate and verify identity; to provide a means of access to USPTO electronic assets including the USPTO network, desktops, and laptops; and to provide mechanisms for non-repudiation of personal identification and access to sensitive electronic systems, including but not limited to human resource, financial, procurement, travel and property systems, as well as systems containing information on intellectual property and other mission critical systems. The system also maintains records relating to the issuance of digital certificates utilizing public key cryptography to employees and contractors for the transmission of sensitive electronic material that requires protection.

Routine uses of records maintained in the system, including categories of users and the purposes of such uses:

See Prefatory Statement of General Routine Uses Nos. 1-13, as found at 46 FR 63501-63502 (December 31, 1981).

Disclosure to consumer reporting agencies:

Not applicable.

Policies and practices for storing, retrieving, accessing, retaining, and disposing of records in the system:

Storage:

Records are stored as electronic media and paper records.

Retrievability:

Records are retrieved by individual's name, social security number, employment status, organization and/or security access badge number.

Safeguards:

Entrance to data centers and support organization offices is restricted to those employees whose work requires them to be there for the system to operate. Identification cards are verified to ensure that records are in areas accessible only to authorized personnel who are properly screened, cleared, and trained. Disclosure of electronic information through remote terminals is restricted through the use of passwords and sign-on protocols that are periodically changed. Reports produced from the remote printers are in the custody of personnel and financial management officers and are subject to the same privacy controls as other documents of like sensitivity.

Digital certificates ensure secure local and remote access and allow only authorized employees, contractor employees, or other affiliated individuals to gain access to federal information assets available through secured systems access.

Access to sensitive records is available only to authorized employees and contractor employees responsible for the management of the system and/or employees of program offices who have a need for such information. Paper records are maintained in locked safes and/or file cabinets. Electronic records are password-protected or PKI-protected. During non-work hours, records are stored in locked safes and/or cabinets in locked rooms.

Retention and disposal:

The records on government employees and contractor employees are retained for the duration of their employment at the USPTO. Other individuals' records are kept for the duration of their affiliation with the USPTO and then treated as employee records. The records on separated employees are destroyed or sent to the Federal Records Center in accordance with General Records Schedule 18.

System manager(s) and address:

Director, IT Security Program Office, United States Patent and Trademark Office, Madison Building West—Room 5A05, 600 Dulany Street, Alexandria, VA 22314.

Notification procedure:

Information may be obtained from either the Director, IT Security Program Office, United States Patent and Trademark Office, Madison Building West—Room 5A05, 600 Dulany Street, Alexandria, VA 22314; or the Chief Information Officer, United States Patent and Trademark Office, P.O. Box 1450, Alexandria, VA 22313-1450. Requesters should provide the appropriate information in accordance with the inquiry provisions appearing at 37 CFR Part 102 Subpart B.

Record access procedures:

USPTO employees wishing to inquire whether this system of records contains information about them should contact the system manager indicated. Individuals must furnish their full names for their records to be located and identified. See “Notification procedure” above.

Contesting record procedures:

USPTO employees wishing to request amendment of their records should contact the system manager indicated. Individuals must furnish their full names for their records to be located and identified. See “Notification procedure” above.

Record source categories:

The information contained in these records is provided by or verified by the subject individual of the record, supervisors, other personnel documents, and non-Federal sources such as private employers.

Exemptions claimed for the system:

None.

Dated: December 7, 2004.
Susan K. Brown,
Records Officer, USPTO, Office of the Chief Information Officer, Office of Data Architecture and Services, Data Administration Division.

[FR Doc. 04-27321 Filed 12-13-04; 8:45 am]

BILLING CODE 3510-16-P